DEPARTMENT OF ENERGY

Federal Energy Regulatory Commission

Combined Notice of Filings #1

Take notice that the Commission received the following exempt wholesale generator filings:

Docket Numbers: EG20-196-000.

Applicants: Hardin Solar Energy LLC.

Description: Notice of Self-Certification of Exempt Wholesale Generator Status of Hardin Solar Energy LLC.

Filed Date: 6/22/20.

Accession Number: 20200622-5162.

Comments Due: 5 p.m. ET 7/13/20.

Take notice that the Commission received the following electric rate filings:

Docket Numbers: ER04-835-010.

Applicants: California Independent System Operator Corporation.

Description: Response to May 21, 2020 Deficiency Letter of California Independent System Operator Corporation.

Filed Date: 6/22/20.

Accession Number: 20200622-5214.

Comments Due: 5 p.m. ET 7/13/20.

Docket Numbers: ER17-105-005; ER17-104-005; ER17-556-004; ER15-1019-007; ER10-1362-004; ER12-2639-009; ER10-2628-006; ER18-2158-001; ER11-3959-008; ER20-1722-000.

Applicants: Broadview Energy JN, LLC, Broadview Energy KW, LLC, Grady Wind Energy Center, LLC, Fowler Ridge IV Wind Farm LLC, Hatchet Ridge Wind, LLC, Spring Valley Wind LLC, Ocotillo Express LLC, Lost Creek Wind, LLC, Post Rock Wind Power Project, LLC, Stillwater Wind, LLC.

Description: Supplement to April 20, 2020 Notice of Change in Status of the Pattern MBR Entities, et al.

Filed Date: 6/23/20.

Accession Number: 20200623-5181.

Comments Due: 5 p.m. ET 7/14/20.

Docket Numbers: ER20-80-002.

Applicants: Meadow Lake Wind Farm VI LLC.

Description: Compliance filing: Meadow Lake Wind Farm VI LLC, Docket No. ER20-80-002 to be effective 12/9/2019.

Filed Date: 6/23/20.

Accession Number: 20200623-5060.

Comments Due: 5 p.m. ET 7/14/20.

Docket Numbers: ER20-1061-003.

Applicants: Turquoise Nevada LLC.

Description: Tariff Amendment: Second Amended and Restated Shared Facilities Agreement to be effective 2/22/2020.

Filed Date: 6/23/20.

Accession Number: 20200623-5136.

Comments Due: 5 p.m. ET 7/14/20.

Docket Numbers: ER20-1120-002.

Applicants: Paper Birch Energy, LLC.

Description: Tariff Amendment: Response to Additional Information Request to be effective 4/29/2020.

Filed Date: 6/23/20.

Accession Number: 20200623-5067.

Comments Due: 5 p.m. ET 7/14/20.

Docket Numbers: ER20-1650-001.

Applicants: Little Bear Master Tenant, LLC.

Description: Tariff Amendment: Supplement to Market-Based Rate Petition and Revised Market-Based Rate Tariff to be effective 6/24/2020.

Filed Date: 6/22/20.

Accession Number: 20200622-5181.

Comments Due: 5 p.m. ET 7/13/20.

Docket Numbers: ER20-1673-001.

Applicants: Midcontinent Independent System Operator, Inc.

Description: Tariff Amendment: 2020-06-23_Amendment to Compensation for Restoration Energy Filing to be effective 6/28/2020.

Filed Date: 6/23/20.

Accession Number: 20200623-5117.

Comments Due: 5 p.m. ET 6/30/20.

Docket Numbers: ER20-1703-000.

Applicants: Capital Energy PA LLC.

Description: Supplement to April 30, 2020 Capital Energy PA LLC tariff filing.

Filed Date: 6/22/20.

Accession Number: 20200622-5198.

Comments Due: 5 p.m. ET 7/13/20.

Docket Numbers: ER20-1942-001.

Applicants: Midcontinent Independent System Operator, Inc.

Description: Tariff Amendment: 2020-06-22_Amendment to Conventional Deliverable ICAP Filing to be effective 8/12/2020.

Filed Date: 6/22/20.

Accession Number: 20200622-5173.

Comments Due: 5 p.m. ET 6/29/20.

Docket Numbers: ER20-2115-000.

Applicants: PJM Interconnection, L.L.C.

Description: Tariff Cancellation: Notice of Cancellation of ISA No. 3568, Queue No. Y2-098 to be effective 8/31/2020.

Filed Date: 6/22/20.

Accession Number: 20200622-5164.

Comments Due: 5 p.m. ET 7/13/20.

Docket Numbers: ER20-2116-000.

Applicants: Forward WindPower LLC.

Description: § 205(d) Rate Filing: Market-Based Rate Tariff Revisions to be effective 6/23/2020.

Filed Date: 6/22/20.

Accession Number: 20200622-5168.

Comments Due: 5 p.m. ET 7/13/20.

Docket Numbers: ER20-2117-000.

Applicants: Lookout WindPower LLC.

Description: § 205(d) Rate Filing: Market-Based Rate Tariff Revisions to be effective 6/23/2020.

Filed Date: 6/22/20.

Accession Number: 20200622-5169.

Comments Due: 5 p.m. ET 7/13/20.

Docket Numbers: ER20-2118-000.

Applicants: Pinnacle Wind, LLC.

Description: § 205(d) Rate Filing: Market-Based Rate Tariff Revisions to be effective 6/23/2020.

Filed Date: 6/22/20.

Accession Number: 20200622-5170.

Comments Due: 5 p.m. ET 7/13/20.

Docket Numbers: ER20-2119-000.

Applicants: ISO New England Inc., Versant Power.

Description: § 205(d) Rate Filing: Versant Power; Notice of Succession to ISO-NE Schedules 20A-EM and 21-EM to be effective 5/11/2020.

Filed Date: 6/22/20.

Accession Number: 20200622-5171.

Comments Due: 5 p.m. ET 7/13/20.

Docket Numbers: ER20-2120-000.

Applicants: Duke Energy Progress, LLC.

Description: Tariff Cancellation: Notice of Cancellation of Reimbursement Agreements RS 353, 355, 356, 357, 358 to be effective 9/1/2020.

Filed Date: 6/22/20.

Accession Number: 20200622-5174.

Comments Due: 5 p.m. ET 7/13/20.

Docket Numbers: ER20-2121-000.

Applicants: Sierra Pacific Power Company.

Description: § 205(d) Rate Filing: Service Agreement No. 20-00023 to be effective 6/23/2020.

Filed Date: 6/22/20.

Accession Number: 20200622-5175.

Comments Due: 5 p.m. ET 7/13/20.

Docket Numbers: ER20-2122-000.

Applicants: Carolina Power Partners, LLC.

Description: § 205(d) Rate Filing: Carolina Power Partners, LLC—Filing of Revised Tariff to be effective 4/6/2020.

Filed Date: 6/22/20.

Accession Number: 20200622-5176.

Comments Due: 5 p.m. ET 7/13/20.

Docket Numbers: ER20-2123-000.

Applicants: Hardin Solar Energy LLC.

Description: Baseline eTariff Filing: Application for Market-Based Rate Authorization to be effective 8/23/2020.

Filed Date: 6/22/20.

Accession Number: 20200622-5177.

Comments Due: 5 p.m. ET 7/13/20.

Docket Numbers: ER20-2124-000.

Applicants: PJM Interconnection, L.L.C.

Description: § 205(d) Rate Filing: Amendment to WMPA, SA No. 5488; Queue No. AE2-006 (amend) to be effective 9/12/2019.

Filed Date: 6/22/20.

Accession Number: 20200622-5178.

Comments Due: 5 p.m. ET 7/13/20.

Docket Numbers: ER20-2125-000.

Applicants: WGP Redwood Holdings, LLC.

Description: Baseline eTariff Filing: Market-Based Rate Tariff Application to be effective 6/23/2020.

Filed Date: 6/22/20.

Accession Number: 20200622-5179.

Comments Due: 5 p.m. ET 7/13/20.

Docket Numbers: ER20-2126-000.

Applicants: Wolverine Power Supply Cooperative, Inc.

Description: § 205(d) Rate Filing: Amended Restated Interconnection Facilities Agreement for Gray Station to be effective 6/23/2020.

Filed Date: 6/22/20.

Accession Number: 20200622-5180.

Comments Due: 5 p.m. ET 7/13/20.

Docket Numbers: ER20-2127-000.

Applicants: Southwest Power Pool, Inc.

Description: § 205(d) Rate Filing: 3001R1 Evergy Missouri West & AECI Interconnection Agreement to be effective 8/22/2020.

Filed Date: 6/23/20.

Accession Number: 20200623-5058.

Comments Due: 5 p.m. ET 7/14/20.

Docket Numbers: ER20-2128-000.

Applicants: Southwest Power Pool, Inc.

Description: § 205(d) Rate Filing: 3198R1 Evergy MO West & City of Gilman City, MO Inter. Agr. to be effective 8/22/2020.

Filed Date: 6/23/20.

Accession Number: 20200623-5068.

Comments Due: 5 p.m. ET 7/14/20.

Docket Numbers: ER20-2129-000.

Applicants: Tri-State Generation and Transmission Association, Inc.

Description: § 205(d) Rate Filing: Rate Schedule FERC No. 274 between Tri-State and Empire to be effective 6/24/2020.

Filed Date: 6/23/20.

Accession Number: 20200623-5074.

Comments Due: 5 p.m. ET 7/14/20.

Docket Numbers: ER20-2130-000.

Applicants: Greenleaf Energy Unit 1 LLC.

Description: Tariff Cancellation: Greenleaf Energy Unit 1, LLC Notice of Cancellation of MBR Tariff to be effective 6/24/2020.

Filed Date: 6/23/20.

Accession Number: 20200623-5088.

Comments Due: 5 p.m. ET 7/14/20.

Docket Numbers: ER20-2131-000.

Applicants: Southwest Power Pool, Inc.

Description: § 205(d) Rate Filing: 2652R4 Waverly Wind Farm LLC GIA to be effective 8/22/2020.

Filed Date: 6/23/20.

Accession Number: 20200623-5100.

Comments Due: 5 p.m. ET 7/14/20.

Docket Numbers: ER20-2132-000.

Applicants: Edgecombe Genco, LLC.

Description: Notice of Cancellation of Market-Based Rate Tariff of Edgecombe Genco, LLC.

Filed Date: 6/23/20.

Accession Number: 20200623-5121.

Comments Due: 5 p.m. ET 7/14/20.

Docket Numbers: ER20-2133-000.

Applicants: ISO New England Inc., Versant Power.

Description: Compliance filing: Versant Power; Changes to Schedule 21-VP in Compliance with Order No. 864 to be effective 6/1/2020.

Filed Date: 6/23/20.

Accession Number: 20200623-5130.

Comments Due: 5 p.m. ET 7/14/20.

Docket Numbers: ER20-2134-000.

Applicants: Cimarron Bend Wind Project III, LLC.

Description: Baseline eTariff Filing: Cimarron Bend Wind Project III MBR Tariff to be effective 8/24/2020.

Filed Date: 6/23/20.

Accession Number: 20200623-5133.

Comments Due: 5 p.m. ET 7/14/20.

Docket Numbers: ER20-2135-000.

Applicants: RE Mustang Two Whirlaway LLC.

Description: § 205(d) Rate Filing: RE Mustang Two Whirlaway LLC SFA to be effective 6/24/2020.

Filed Date: 6/23/20.

Accession Number: 20200623-5139.

Comments Due: 5 p.m. ET 7/14/20.

Docket Numbers: ER20-2136-000.

Applicants: Southwest Power Pool, Inc.

Description: § 205(d) Rate Filing: 1298R1 Evergy Kansas South and AECI Interconnection Agr to be effective 8/22/2020.

Filed Date: 6/23/20.

Accession Number: 20200623-5146.

Comments Due: 5 p.m. ET 7/14/20.

Docket Numbers: ER20-2137-000.

Applicants: Starvation Solar I, LLC.

Description: Baseline eTariff Filing: Starvation Solar I, LLC SFA Concurrence to be effective 6/24/2020.

Filed Date: 6/23/20.

Accession Number: 20200623-5176.

Comments Due: 5 p.m. ET 7/14/20.

Docket Numbers: ER20-2138-000.

Applicants: Fort Rock Solar I, LLC.

Description: Baseline eTariff Filing: Fort Rock Solar I, LLC SFA Concurrence to be effective 6/24/2020.

Filed Date: 6/23/20.

Accession Number: 20200623-5177.

Comments Due: 5 p.m. ET 7/14/20.

Docket Numbers: ER20-2139-000.

Applicants: Fort Rock Solar IV, LLC.

Description: Baseline eTariff Filing: Fort Rock Solar IV, LLC SFA Concurrence to be effective 6/24/2020.

Filed Date: 6/23/20.

Accession Number: 20200623-5178.

Comments Due: 5 p.m. ET 7/14/20.

Docket Numbers: ER20-2140-000.

Applicants: Riley Solar I, LLC.

Description: Baseline eTariff Filing: Riley Solar I, LLC SFA Concurrence to be effective 6/24/2020.

Filed Date: 6/23/20.

Accession Number: 20200623-5179.

Comments Due: 5 p.m. ET 7/14/20.

Docket Numbers: ER20-2141-000.

Applicants: Fort Rock Solar IV, LLC.

Description: § 205(d) Rate Filing: Fort Rock Solar IV, LLC SFA Concurrence to be effective 6/24/2020.

Filed Date: 6/23/20.

Accession Number: 20200623-5182.

Comments Due: 5 p.m. ET 7/14/20.

Docket Numbers: ER20-2142-000.

Applicants: Fort Rock Solar I, LLC.

Description: § 205(d) Rate Filing: Fort Rock Solar I, LLC SFA Concurrence to be effective 6/24/2020.

Filed Date: 6/23/20.

Accession Number: 20200623-5183.

Comments Due: 5 p.m. ET 7/14/20.

Docket Numbers: ER20-2143-000.

Applicants: RE Mustang Two Barbaro LLC.

Description: § 205(d) Rate Filing: RE Mustang Two Barbaro, LLC Certificate of Concurrence with SFA to be effective 6/24/2020.

Filed Date: 6/23/20.

Accession Number: 20200623-5184.

Comments Due: 5 p.m. ET 7/14/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 23, 2020.
Nathaniel J. Davis, Sr.,
Deputy Secretary.

[FR Doc. 2020-13907 Filed 6-26-20; 8:45 am]

BILLING CODE 6717-01-P